FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 18, 2000.

A. Federal Reserve Bank of Richmond (A. Linwood Gill, III, Vice President) 701 East Byrd Street, Richmond, Virginia 23261-4528:

1. The Exchange Bankshares, Inc., Estill, South Carolina; to become a bank holding company by acquiring 100 percent of the voting shares of The Exchange Bank, Estill, South Carolina.

2. Friedman, Billings, Ramsey Group, Inc., and its subsidiaries, FBR Bancorp, Inc.; Money Management Associates, Inc.; and Money Management Associates (LP), Inc.; of Arlington, Virginia; to become bank holding companies by acquiring 100 percent of the voting shares of Rushmore National Bank, Bethesda, Maryland (successor by conversion of Rushmore Trust and Savings, FSB, Bethesda, Maryland, to a national bank).

In connection with this application, Friedman, Billings, Ramsey Group, Inc., Arlington, Virginia, also has applied to retain 6.34 percent of the voting shares of Pocahontas Bancorp, Inc., Pocahontas, Arkansas, and its sole thrift subsidiary, Pocahontas Federal Savings and Loan Association, Pocahontas, Arkansas, and thereby engage in owning shares in a savings association, pursuant to § 225.28(b)(4)(ii) of Regulation Y.

B. Federal Reserve Bank of Atlanta (Cynthia C. Goodwin, Vice President) 104 Marietta Street, N.W., Atlanta, Georgia 30303-2713:

1. Firstrust Corporation, New Orleans, Louisiana; to acquire 100 percent of the voting shares of Metro Bank, Kenner, Louisiana.

C. Federal Reserve Bank of Kansas City (D. Michael Manies, Assistant Vice President) 925 Grand Avenue, Kansas City, Missouri 64198-0001:

1. Advantage Bancorp, Inc., Woodbury, Minnesota; to become a bank holding company by acquiring 100 percent of the voting shares of Advantage Bank, Loveland, Colorado, a de novo bank in organization.

2. Commerce Financial Corporation Employee Stock Ownership Plan, Topeka, Kansas; to become a bank holding company by acquiring at least 25.65 percent of the voting shares of Commerce Financial Corporation, Topeka, Kansas, and thereby indirectly acquire Commerce Bank and Trust, Topeka, Kansas.

In connection with this application, Applicant and Commerce Financial Corporation, Topeka, Kansas, also has applied to retain an additional 19.63 percent, for a total of 29.03 percent, of the voting shares of Financial Institution Technologies (also known as Suntell, Topeka, Kansas), and thereby engage in data processing activities, pursuant to § 225.28(b)(14)(i)(A) of Regulation Y.

D. Federal Reserve Bank of San Francisco (Maria Villanueva, Consumer Regulation Group) 101 Market Street, San Francisco, California 94105-1579:

1. Wells Fargo & Company, San Francisco, California; to acquire 100 percent of the voting shares of Buffalo National Bancshares, Inc., Buffalo, Minnesota, and thereby indirectly acquire voting shares of The Buffalo National Bank, Buffalo, Minnesota.

Board of Governors of the Federal Reserve System, July 19, 2000.
Robert deV. Frierson,
Associate Secretary of the Board.

[FR Doc. 00-18632 Filed 7-21-00; 8:45 am]

BILLING CODE 6210-01-U